DEPARTMENT OF TRANSPORTATION

Federal Aviation Administration

Agency Information Collection Activity Under OMB Review, Request for Comments; Clearance of a New Information Collection Activity, Air Carriers Listing of Leading Outsource Maintenance Providers

AGENCY: Federal Aviation Administration (FAA), DOT.

ACTION: Notice and request for comments.

SUMMARY: The FAA invites public comments about our intention to request the Office of Management and Budget's (OMB) approval for a new information collection. The FAA will use the data from the proposed collection to determine satisfaction of customers receiving services resulting from a contract with Lockheed Martin.

DATES: Please submit comments by November 3, 2005.

FOR FURTHER INFORMATION CONTACT: Judy Street on (202) 267-9895.

SUPPLEMENTARY INFORMATION:

Federal Aviation Administration (FAA)

Title: Automated Flight Service Station A-76 competition.

Type of Request: Approval for a new collection.

OMB Control Number: 2120-xxxx.

Form(s): Customer Satisfaction Survey.

Affected Public: A Total of 8,000 General Aviation Pilots.

Frequency: The survey will be available to respondents for them to use as needed.

Estimated Average Burden Per Response: 10 minutes.

Estimated Annual Burden Hours: An estimated 1,333 hours annually.

Abstract: The proposed survey will be conducted to determine customer satisfaction with Lockheed Martin's provision of flight services through the contract that was competitively sourced in an OMB A-76 Circular Competitive Sourcing initiative. The results of the survey will be used as a measure in evaluating Lockheed Martin's performance of the service. Responses are voluntarily solicited from the customers, primarily general aviation pilots.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of Department's estimates of the burden of the proposed information collection; ways to enhance the quality, utility and clarity of the information to be collected; and ways to minimize the burden of the collection of information on respondents, including the use of automated collection techniques or other forms of information technology.

Issued in Washington, DC on September 29, 2005.
Judith D. Street,
FAA Information Collection Clearance Officer, Information Systems and Technology Services Staff, ABA-20.

[FR Doc. 05-19857 Filed 10-3-05; 8:45 am]

BILLING CODE 4910-13-M